DEPARTMENT OF TRANSPORTATION

Federal Aviation Administration

Notice of Intent To Rule on Request To Release Airport Property at Hammond Northshore Regional Airport, Hammond, LA

AGENCY: Federal Aviation Administration (FAA), DOT.

ACTION: Notice of request to release airport property.

SUMMARY: The FAA proposes to rule and invites public comment on the release of land at the Hammond Northshore Regional Airport, Hammond, Louisiana. The property consists of vacant land located on the corner of Industrial Park Road and Shelton Road near the Hammond Northshore Regional Airport just outside the city limits of Hammond, Louisiana. The land in question was acquired by the city of Hammond, Louisiana on September 8, 1948, through provisions of the Federal Property and Administration Service Act of 1949 and the Surplus Property Act of 1944.

As airport owner, the city of Hammond has requested to release a parcel in an effort to obtain a control tower at the Hammond Northshore Regional Airport. As part of this release, this parcel will change from aeronautical to non-aeronautical use and be limited to some type of commercial or industrial use under the provisions of Section 125 of the Wendell H. Ford Aviation Investment Reform Act for the 215t Century (AIR 21).

DATES: Comments must be received on or before June 3, 2011.

ADDRESSES: Comments on this application may be mailed or delivered to the FAA at the following address: Mr. Lacey D. Spriggs, Federal Aviation Administration, Southwest Region, Airports Division, Manager/Louisiana/New Mexico Airports Development Office, ASW-640, 2601 Meacham Boulevard, Fort Worth, Texas 76137.

In addition, one copy of any comments submitted to the FAA must be mailed or delivered to Mr. Bradley R. Brandt, Acting Aviation Director, Louisiana Department of Transportation, at the following address: P.O. Box 94245, Baton Rouge, Louisiana 70804.

FOR FURTHER INFORMATION CONTACT: Mr. Justin Barker, Federal Aviation Administration, Program Manager/Louisiana/New Mexico Airports Development, Office, ASW-640, 2601 Meacham Boulevard, Fort Worth, Texas 76137.

The request to release property may be reviewed in person at this same location.

SUPPLEMENTARY INFORMATION: The FAA invites public comment on the request to release property at the Hammond Northshore Regional Airport under the provisions of the AIR 21.

The following is a brief overview of the request:

As airport owner, the city of Hammond has requested to release a parcel comprised of 17.01 acres that was acquired under the 1945 acquisition of property with aeronautical rights attached. The release of property will not adversely affect the Hammond Northshore Regional Airport because the parcel is located immediately east of the airport on the on Industrial Park Road. The parcel is separated from the airport by Industrial Park Road. This property was part of the Runway Protection Zone for Runway 22 which is no longer in use and can never be used for airport purposes. The sale is estimated to provide $545,000.00 to be used for construction of a new control tower at the airport. In the event that the proposed control tower project is not funded, the city of Hammond has provided written concent that the proceeds of this land release will be used for other needed airport improvements at the Hammond Northshore Regional Airport.

Any person may inspect the request in person at the FAA office listed above under FOR FURTHER INFORMATION CONTACT.

In addition, any person may, upon request, inspect the application, notice and other documents germane to the application in person at the Hammond Northshore Regional Airport.

Issued in Fort Worth, Texas on April 1, 2011.
Kelvin L. Solco,
Manager, Airports Division.

[FR Doc. 2011-10637 Filed 5-3-11; 8:45 am]

BILLING CODE M